LEGAL SERVICES CORPORATION

Federal Register Notice of Request for Comments; Re: 2021 LSC Agricultural Worker Poverty Population Estimates

AGENCY: Legal Services Corporation.

ACTION: Request for comments.

SUMMARY: The Legal Services Corporation (LSC) provides special population grants to effectively and efficiently fund civil legal aid services to address the legal needs of agricultural workers and their dependents through grants entitled “Basic Field—Agricultural Workers.” The funding for these grants is based on data regarding the eligible client population to be served. LSC obtained from the U.S. Department of Labor data about this population that updates the data the Department of Labor provided in 2016. LSC seeks comments on the updated data, which LSC will begin using for grant allocations on January 1, 2022.

DATES: Comments must be submitted by January 10, 2022.

ADDRESSES: Written comments must be submitted to agworkerpopulation@lsc.gov with attachments in Acrobat PDV format. If you cannot submit your comments by email, please contact LSC regarding alternatives for submission by calling Mark Freedman, Senior Associate General Counsel, Legal Services Corporation, 202-295-1623. Written comments sent to any other address or received after the end of the comment period may not be considered by LSC.

FOR FURTHER INFORMATION CONTACT: Mark Freedman, Senior Assistant General Counsel, Legal Services Corporation, 3333 K St. NW, Washington, DC 20007; 202-295-1623 (phone); 202-337-6519 (fax); mfreedman@lsc.gov.

SUPPLEMENTARY INFORMATION: The Legal Services Corporation (“LSC” or “Corporation”) was established through the LSC Act “for the purpose of providing financial support for legal assistance in noncriminal matters or proceedings to persons financially unable to afford such assistance.” 42 U.S.C. 2996b(a). LSC performs this function primarily through distributing funding appropriated by Congress to independent civil legal aid programs providing legal services to low-income persons throughout the United States and its possessions and territories. 42 U.S.C. 2996e(a)(1)(A). LSC designates geographic service areas and structures grants to support services to the entire eligible population in a service area or to a specified subpopulation of eligible clients. 45 CFR 1634.2(c) & (d), 1634.3(b). LSC awards these grants through a competitive process. 45 CFR part 1634. Congress has mandated that LSC “insure those grants and contracts are made so as to provide the most economical and effective delivery of legal assistance to persons in both urban and rural areas.” 42 U.S.C. 2996f(a)(3).

Throughout the United States and U.S. territories, LSC provides Basic Field—General grants to support legal services for eligible clients. LSC provides funding for those grants on a per-capita basis using the poverty population as determined by the U.S. Census Bureau every three years. Public Law 104-134, tit. V, 501(a), 110 Stat. 1321, 1321-50 (1996), as amended by Public Law 113-6, div. B, tit. IV, 127 Stat. 198, 268 (2013) (LSC funding formula adopted in 1996, incorporated by reference in LSC's appropriations thereafter, and amended in 2013). Since its establishment in 1974, LSC has also provided subpopulation grants to support legal services for the needs of agricultural workers through Basic Field—Agricultural Worker grants under the authority of the LSC Act to structure grants for the most economic and effective delivery of legal assistance. 42 U.S.C. 2996f(a)(3).

LSC provides funding for Basic Field—Agricultural Worker grants on a per-capita basis by determining the size of the agricultural worker poverty population and separating that population from the overall poverty population for the applicable geographic area or areas. LSC expects programs receiving these grants to serve the legal needs of a broad range of eligible agricultural workers and their dependents who have specialized legal needs that are most effectively and efficiently served through a dedicated grant program.

The United States Department of Labor, Employment and Training Administration (ETA) collects data regarding agricultural workers for federal grants serving the needs of the American agricultural worker population. The U.S. Census Bureau does not maintain data regarding agricultural workers. In 2016 LSC contracted with ETA for these data, including state-by-state breakdowns. A description of those data and their development is available at: https://www.lsc.gov/grants/basic-field-grant/lsc-service-areas/agricultural-worker-population-estimates-2016-update.

In 2020 and 2021, LSC began the process of updating this data. LSC sought and obtained input from legal aid programs serving these eligible clients and from the National Legal Aid and Defender Association. More information about that process is available at: https://www.lsc.gov/grants/basic-field-grant/lsc-service-areas/agricultural-worker-population-estimate-2021-update.

With consideration of the input provided, LSC contracted with ETA to provide more current data regarding agricultural worker population for grants beginning January 1, 2022. ETA has provided updated estimates based on an estimation methodology designed to improve the accuracy and validity of the estimates. The changes in data will result in changes in funding levels for these grants. LSC will begin using these estimates for grant allocations starting January 1, 2022.

The updated estimates, the estimation methodology and additional materials are available at: https://www.lsc.gov/grants/basic-field-grant/lsc-service-areas/agricultural-worker-population-estimate-2021-update.

LSC invites public comment on this issue. Interested parties may submit comments to LSC before the deadline stated above.

Dated: December 7, 2021.
Mark Freedman,
Senior Associate General Counsel.

[FR Doc. 2021-26722 Filed 12-9-21; 8:45 am]

BILLING CODE 7050-01-P